DEPARTMENT OF THE INTERIOR

Bureau of Ocean Energy Management

[Docket No. BOEM-2020-0005]

Notice of Availability of a Supplement to the Draft Environmental Impact Statement for Vineyard Wind LLC's Proposed Wind Energy Facility Offshore Massachusetts and Public Meetings

AGENCY: Bureau of Ocean Energy Management, Interior.

ACTION: Notice.

SUMMARY: In accordance with National Environmental Policy Act (NEPA) regulations, the Bureau of Ocean Energy Management (BOEM) is announcing the availability of a supplement to the Vineyard Wind Offshore Wind Energy Project Draft Environmental Impact Statement (Supplement) prepared for the Construction and Operation Plan (COP) submitted by Vineyard Wind LLC (Vineyard Wind). The Supplement analyzes reasonably foreseeable effects from an expanded cumulative activities scenario for offshore wind development, previously unavailable fishing data, a new transit lane alternative, and changes to the COP since publication of the Draft Environmental Impact Statement (EIS). This notice of availability (NOA) announces the start of the public review and comment period, as well as the time and dates for virtual public meetings on the Supplement. After BOEM holds the public meetings and addresses comments provided, BOEM will prepare a final EIS.

DATES: Comments should be submitted no later than July 27, 2020. BOEM's virtual public meetings will be held at the following dates and times (Eastern):

Friday, June 26, 2020; 5 p.m.;

Tuesday, June 30, 202; 1 p.m.;

Thursday, July 2, 2020; 5 p.m.;

Tuesday, July 7, 2020; 1 p.m.; and

Thursday, July 9, 2020; 5 p.m.

ADDRESSES: The Supplement and detailed information about the proposed wind energy facility, including the COP and the Draft EIS, can be found on a project specific page on BOEM's website at: https://www.boem.gov/Vineyard-Wind/. Comments can be submitted in any of the following ways:

• In written form by mail, enclosed in an envelope labeled “Vineyard Wind COP Supplement to the Draft EIS” and addressed to Program Manager, Office of Renewable Energy, Bureau of Ocean Energy Management, 45600 Woodland Road, Sterling, Virginia 20166. Comments must be received or postmarked no later than July 27, 2020; or

• Through the regulations.gov web portal: Navigate to htttp://www.regulations.gov and search for Docket No. BOEM-2020-0005. Click on the “Comment Now!” button to the right of the document link. Enter your information and comment, then click “Submit.”

FOR FURTHER INFORMATION CONTACT: For information on the EIS or BOEM's policies associated with this notice, please contact: Michelle Morin, BOEM Office of Renewable Energy Programs, 45600 Woodland Road, Sterling, Virginia 20166, (703) 787-1722 or michelle.morin@boem.gov.

SUPPLEMENTARY INFORMATION: BOEM is announcing the availability of a supplement to the Vineyard Wind Offshore Wind Energy Project Draft Environmental Impact Statement (Supplement) prepared COP submitted by Vineyard Wind, in accordance with NEPA regulations, 40 CFR parts 1500-1508.

Details about the live virtual public meetings, including a virtual meeting room web page, can be found at: https://www.boem.gov/Vineyard-Wind/. BOEM will provide call-in information for participants both with and without internet access when they register as well as on the website. Registration for online or phone-in participation in any of the virtual public meetings may be completed here: https://www.boem.gov/Vineyard-Wind-SEIS-Virtual-Meeting or by calling (847) 258-8992. If you require a paper copy of the public meeting materials, please call the number above and BOEM will provide this information upon request, as long as copies are available. The virtual meeting room web page will be available throughout the 45-day comment period and will include fact sheets, posters, pre-recorded presentations, and the opportunity to submit questions and comments to BOEM. Early submission of questions is encouraged so that BOEM may incorporate them into frequently asked questions on the web page and the public meetings, where practicable.

Each live virtual public meeting will begin with a presentation by BOEM and be recorded and posted on the website listed above. All comments received during the meeting will be part of the public record. After the presentation, attendees will have the opportunity to provide comments/statements and ask questions. BOEM will answer questions throughout the meeting.

The queue for stakeholder comments and oral testimony will begin with participants who indicated in their registration that they plan to provide oral testimony and will subsequently be opened to other participants. This process will be managed by an online or phone operator and each participant will have five minutes to give testimony. Any participant who wishes to provide longer than five minutes of testimony is encouraged to do so as a written comment.

Proposed Action: Vineyard Wind seeks to construct, operate, maintain, and eventually decommission an 800-megawatt wind energy facility on the Outer Continental Shelf offshore Massachusetts (the “Project”). The Project and associated export cables would be developed within the range of design parameters outlined in the Vineyard Wind COP, subject to applicable mitigation measures. The COP proposes installing up to 100 wind turbine generators and one or two offshore substations or electrical service platforms. As currently proposed, the Project would be located approximately 14 statute miles from the southeast corner of Martha's Vineyard and a similar distance from the southwest side of Nantucket. The turbines would be located in water depths ranging from approximately 37 to 49 meters (121 to 161 feet). The COP proposes one export cable landfall near the town of Barnstable, Massachusetts. Onshore construction and staging are proposed to take place at the New Bedford Marine Commerce Terminal facility.

The Supplement analyzes reasonably foreseeable effects from an expanded cumulative activities scenario for offshore wind development, previously unavailable fishing data, a new transit lane alternative, and changes to the COP since publication of the Draft EIS. The Supplement reviews resource-specific baseline conditions, considers future offshore wind activities, and, using the methodology and assumptions outlined in the document, assesses cumulative impacts that could result from the incremental impact of the proposed action and action alternatives as defined in the Draft EIS when combined with past, present, or reasonably foreseeable activities, including other future offshore wind activities.

Alternatives: BOEM considered 15 alternatives during the preparation of the Draft EIS and carried forward six for further analysis. These alternatives included five action alternatives (one of which has two sub-alternatives) and the No Action Alternative. This Supplement addresses these five alternatives and an additional Vessel Transit Lane Alternative. There are 13 alternatives in the Supplement that were not further analyzed because they did not meet the purpose and need for the proposed action or did not meet screening criteria. Nine of these alternatives were in the DEIS and an additional 4 alternatives were a result of input received during the DEIS comment period. The screening criteria used included consistency with law and regulations; operational, technical, and economic feasibility; environmental impact; and geographical considerations.

Availability of the Supplement: The Supplement, Vineyard Wind COP, updated visual simulations, and associated information are available on BOEM's website at: https://www.boem.gov/Vineyard-Wind/. BOEM distributed digital copies of the Draft EIS to all parties listed in Appendix F of the Supplement, which includes the location of all libraries receiving a copy. If you require a paper copy, BOEM will provide one upon request, as long as copies are available. You may request a DVD or paper copy of the Supplement by calling (847) 258-8992.

Cooperating Agencies: Nine agencies or governmental entities have participated as cooperating agencies in preparing the EIS: The Bureau of Safety and Environmental Enforcement; the U.S. Environmental Protection Agency; the National Oceanic and Atmospheric Administration; the U.S. Army Corps of Engineers; the U.S. Coast Guard; the Massachusetts Office of Coastal Zone Management; the Rhode Island Department of Environmental Management; the Rhode Island Coastal Resource Management Council; and the Narragansett Indian Tribe.

BOEM does not consider anonymous comments. Please include your name and address as part of your submittal. BOEM makes all comments, including the name and addresses of respondents, available for public review during regular business hours. Individual respondents may request that BOEM withhold their names or addresses from the public record; however, BOEM cannot guarantee that it will be able to do so. If you wish your name or address to be withheld, you must state your preference prominently at the beginning of your comment. All submissions from organizations or businesses and from individuals identifying themselves as representatives or officials of organizations or businesses will be made available for public inspection in their entirety.

Authority: This NOA was prepared under NEPA, as amended (42 U.S.C. 4231 et seq.), and published in accordance with 40 CFR 1506.6 and 43 CFR 46.435.

William Yancey Brown,
Chief Environmental Officer, Bureau of Ocean Energy Management.

[FR Doc. 2020-12822 Filed 6-11-20; 8:45 am]

BILLING CODE 4310-MR-P